DEPARTMENT OF HEALTH AND HUMAN SERVICES

Administration for Children and Families

Submission for OMB Review; Comment Request

Title: Head Start Collaboration Office Annual Report.

OMB No.: New Collection.

Description: The Office of Head Start within the Administration for Children and Families, United States Department of Health and Human Services, is proposing to collect information on the goals, work completed, and accomplishments of the Head Start Collaboration Offices (HSCOs). HSCOs facilitate partnerships between Head Start agencies and other state entities that provide services to benefit low income children and their families. HSCOs are awarded funds under Section 642B of the 2007 Head Start Act. The HSCO Annual Report is to be reported annually by all HSCO to ascertain progress and measurable results for the previous year. The results will also be used to populate the Collaboration Office profile Web pages on Early Childhood Learning & Knowledge Center (ECLKC) to promote the accomplishments of HSCO.

Respondents: Head Start State and National Collaboration Offices.

Annual Burden Estimates
Instrument | Number of respondents | Number of responses per respondent | Average burden hours per response | Total burden hours
HSCO Annual Report | 54 | 1 | 4 | 216

Estimated Total Annual Burden Hours: 216.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2015-21619 Filed 8-31-15; 8:45 am]

BILLING CODE 4184-01-P